DEPARTMENT OF STATE

[Public Notice 7474]

U.S. Advisory Commission on Public Diplomacy; Notice of Meeting

The U.S. Advisory Commission on Public Diplomacy will hold a public meeting from 10 a.m. to 12 p.m. on July 12, 2011, at the Capitol Visitor's Center, room SVC 203-02.

The meeting will include discussions on funding public diplomacy and the Smith-Mundt Act. The Commission welcomes commentary from subject matter experts from several organizations, including the State Department, the Broadcasting Board of Governors, the Congress, and the public on this and other relevant topics.

This meeting is open to the public, Members and staff of Congress, the State Department, Defense Department, the media, and other governmental and non-governmental organizations. To attend or request further information, contact the Commission at (202) 203-7463 or pdcommission@state.gov by 3 p.m. on July 11, 2011. Please arrive for the meeting at least 15 minutes early to allow for a prompt meeting start.

The U.S. Advisory Commission on Public Diplomacy is charged with appraising U.S. Government activities intended to understand, inform, and influence foreign publics. The Commission formulates and recommends to the President, the Secretary of State, and Members of Congress, policies and programs to carry out the public diplomacy functions vested in the State Department, Broadcasting Board of Governors and other government entities. The Commission may submit reports to the Congress, the President, and the Secretary of State on public diplomacy programs and activities. The Commission makes reports available to the public in the United States and abroad to develop a better understanding of and support for public diplomacy programs. These reports are subject to the approval of the Chairperson, in consultation with the Executive Director.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. William Hybl of Colorado, Chairman; Ambassador Lyndon Olson of Texas, Vice Chairman; Mr. Jay Snyder of New York; Ambassador Penne Korth-Peacock of Texas; Ms. Lezlee Westine of Virginia; and, Mr. Sim Farar of California. The seventh seat on the Commission is currently vacant.

The following individual has been nominated to the Commission but awaits Senate confirmation as of this writing: Anne Wedner of Illinois. Ms. Wedner will replace Mr. Jay Snyder on the Commission.

The Commission was established under Section 604 of the United States Information and Educational Exchange Act of 1948, commonly known as the Smith-Mundt Act, as amended (22 U.S.C. 1469) and Section 8 of Reorganization Plan Numbered 2 of 1977. The U.S. Advisory Commission on Public Diplomacy is authorized by Public Law 101-246 (2009), 22 U.S.C. 6553, and has been further authorized through September 20, 2011.

Dated: June 15, 2011.
Matthew C. Armstrong,
Executive Director, Department of State.

[FR Doc. 2011-15628 Filed 6-21-11; 8:45 am]

BILLING CODE 4710-11-P